DEPARTMENT OF LABOR

Office of the Secretary

Agency Information Collection Activities; Submission for OMB Review; Comment Request; Family and Medical Leave Act of 1993, as Amended

ACTION: Notice.

SUMMARY: The Department of Labor (DOL) is submitting the Wage and Hour Division (WHD) sponsored information collection request (ICR) revision titled, “Family and Medical Leave Act of 1993, As Amended,” (FMLA) to the Office of Management and Budget (OMB) for review and approval for use in accordance with the Paperwork Reduction Act (PRA) of 1995 (44 U.S.C. 3501 et seq.). Public comments on the ICR are invited.

DATES: The OMB will consider all written comments that agency receives on or before March 27, 2015.

ADDRESSES: A copy of this ICR with applicable supporting documentation; including a description of the likely respondents, proposed frequency of response, and estimated total burden may be obtained free of charge from the RegInfo.gov Web site at http://www.reginfo.gov/public/do/PRAViewICR?ref_nbr=201410-1235-004 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-WHD, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for revisions to the FMLA information collection approval resulting from a Final Rule the Department is publishing elsewhere in today's issuance of the Federal Register and because of minor clarifications to certain disclosures the Department makes on certain forms to respondents. The notification requirements approved by this ICR will implement the FMLA's statutory notice and certification provisions and assist employees and employers in meeting their FMLA notification obligations. The recordkeeping requirements covered by this ICR are necessary in order for the DOL to carry out its statutory obligation under FMLA section 106 (29 U.S.C. 2616) to investigate and ensure employer compliance.

Elsewhere is today's issuance of the Federal Register, the DOL has published a Final Rule that amends the FMLA definition of spouse in light of the United States Supreme Court's decision in United States v. Windsor, 133 S. Ct. 2675 (2013) that found Defense of Marriage Act section 3 (1 U.S.C. 7) to be unconstitutional. This ICR revises the paperwork burden estimates to reflect the rule. In addition, the WHD has made minor clarifications to some of the information on the forms (e.g., adding information that certain records may need to be maintained in accordance with regulations issued to implement the Genetic Information Nondiscrimination Act). FMLA section 404 authorizes this information collection. See 29 U.S.C. 2654.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1235-0003. The current approval is scheduled to expire on February 28, 2015; however, the DOL notes that existing information collection requirements submitted to the OMB receive a month-to-month extension while they undergo review. New information collection requirements would only take effect upon OMB approval or when the Final Rule takes effect, whichever is later. For additional substantive information about this ICR, see the related notice published in the Federal Register on November 11, 2014 (78 FR 54299).

Interested parties are encouraged to send comments regarding the ICR to the OMB, Office of Information and Regulatory Affairs at the address shown in the ADDRESSES section within thirty (30) days of publication of this notice in the Federal Register. In order to help ensure appropriate consideration, comments should mention OMB Control Number 1235-0003. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-WHD.

Title of Collection: Family and Medical Leave Act of 1993, As Amended.

OMB Control Number: 1235-0003.

Affected Public: Individuals or Households; State, Local, and Tribal Governments; Private Sector—businesses or other for-profits, farms, and not-for-profit institutions.

Total Estimated Number of Respondents: 7,182,916.

Total Estimated Number of Responses: 82,371,724.

Total Estimated Annual Time Burden: 9,313,502 hours.

Total Estimated Annual Other Costs Burden: $184,932,912.

Dated: February 18, 2015.
Michel Smyth,
Departmental Clearance Officer.

[FR Doc. 2015-03568 Filed 2-23-15; 11:15 am]

BILLING CODE 4510-27-P